DEPARTMENT OF DEFENSE

Department of the Army; Corps of Engineers

Notice of Intent to Prepare a Draft Environmental Impact Statement (EIS) for the Reaches 8, 9, and 10 Comprehensive Shoreline Stabilization Project in Palm Beach County, Florida

AGENCY: Department of the Army, U.S. Army Corps of Engineers, DoD.

ACTION: Notice of Intent (NOI).

SUMMARY: The U.S. Army Corps of Engineers (Corps), Jacksonville District, has received two permit applications for Department of the Army permits under Section 10 of the Rivers and Harbors Act of 1899 (33 U.S.C. 403) Section 404 of the Clean Water Act (CWA) (33 U.S.C. 1344) from the Town of Palm Beach (Town) and Palm Beach County (County) to discharge fill in Waters of the United States for the purpose of shoreline stabilization. The two projects being considered and their Department of the Army file numbers are the Town of Palm Beach—Reach 8 South (SAJ-2005-07908) and the Palm Beach County—Central Palm Beach County Comprehensive Erosion Control (SAJ-2008-04086). The projects overlap (i.e. had proposed the discharge of fill in the same location) along approximately 2,000 linear feet from approximately R-132 to R-134 (see Location for further information) when initially submitted and now abut one another. The Corps determined that the proposed beach nourishment projects are connected actions and is evaluating the environmental effects of these connected actions together.

The primary Federal involvement associated with the Proposed Activities is the discharge of fill within Waters of the United States and the construction of low profile groins within Navigable Waters of the United States. The proposed project site is a beach situated directly adjacent to extensive hardbottom resources and experiences year-round recreational usage. The Proposed Activities may result in localized shoreline accretion or erosion on the adjacent beach segments and potential adverse effects on federally listed species. Issuance of Federal authorizations for the Proposed Activities would constitute a “Major Federal Action.” The Corps is preparing an EIS in compliance with the National Environmental Policy Act (NEPA) to identify and assess the effects of the Proposed Action and its alternatives, including the No Action Alternative, in order to provide a basis for rendering an informed decision on the proposed project.

The Corps' decision will be to either issue, issue with modifications, or deny Department of the Army permits for the Proposed Action. The Draft EIS (DEIS) is intended to be sufficient in scope to address federal, state, and local requirements and environmental issues concerning the Proposed Action and permit reviews.

DATES: The Corps plans to hold a public scoping meeting on August 12, 2013, at 5:30pm Eastern Standard Time (EST).

ADDRESSES: The public scoping meeting will be held at Town of Palm Beach Council Chambers, 2nd floor, Town Hall, 360 South County Road, Palm Beach, Florida.

FOR FURTHER INFORMATION CONTACT: Questions about the Proposed Action and Draft EIS should be directed to Mr. Garett Lips, Corps Regulatory Project Manager, by telephone at (561) 472-3519 or by email at Garett.G.Lips@usace.army.mil. Written comments should be addressed to the U.S. Army Corps of Engineers, Attn: Mr. Garett Lips, 4400 PGA Boulevard, Suite 500, Palm Beach Gardens, Florida 33410.

SUPPLEMENTARY INFORMATION: a. Project Location, Background. The Corps will study the environmental impacts of the Proposed Action within Central Palm Beach County. The area between the Palm Beach Inlet and the South Lake Worth Inlet has been roughly divided into 11 beach segments known as “reaches” to facilitate area location. Reaches 1-8 fall mainly within the Town of Palm Beach. Reaches 9-11 are associated with the Town of South Palm Beach, Town of Lantana, and Town of Manalapan. The Study Area comprises approximately 2.07 miles of shoreline and nearshore environment within the southern extent of Reach 8, throughout all of Reach 9, and the northern extent of Reach 10. The Florida Department of Environmental Projection (FDEP) utilizes range monuments (R-monuments), a statewide network of survey monuments, to more closely identify specific locations on the state's sandy beach shoreline. The northern limit of the Study Area is located at R-128+955 (south of Lake Worth Municipal Beach located within the Town) and extends south to R-138+551 (the Ritz Carlton Hotel in Manalapan). The existing structural armoring in the Study Area includes rock revetments, concrete seawalls, steel sheet pile walls, a small wood retaining structure, a concrete ramp, and a concrete waffle revetment. The Town and the County have completed dune nourishments within the Study Area on several occasions and have planted native dune vegetation at several locations.

b. Purpose and Need. The basic purpose of the Proposed Action is to stabilize the shoreline. The overall purpose is to stabilize the shoreline within the southern portion of Reach 8, all of Reach 9, and the northern portion of Reach 10.

c. Prior EAs, EISs. The FDEP and the Corps, under the Coast of Florida Study, conducted an extensive offshore geotechnical investigation of the region which extended south to R-132, but did not cover the entire Study Area.

The Corps issued a Notice of Intent for the Central Palm Beach County Comprehensive Erosion Control Project EIS on Monday, May 3, 2010. The project was subsequently withdrawn and no authorization was issued.

d. Proposed Action. The Applicants' Proposed Action is to construct beach nourishment and dune restoration projects between R-128+955 and R-138+551 with sand placement and the construction of seven (7) low profile, shore-perpendicular groins (groin field). All sand is proposed to be sourced from an upland sand mine. The Proposed Action consists of the following two projects:

The Town of Palm Beach—South Reach 8 Project—does not include structures and extends from FDEP monument R-128+955 to R-134+135. The Town proposes to place approximately 74,300 cubic yards of beach quality sand in this area.

Palm Beach County—Central Palm Beach County Comprehensive Erosion Control Project—includes construction of a groin field as well as sand placement between approximately R-135+195 and R-137. The groins would be located landward of the nearshore and offshore hardbottom. Approximately 75,000 cubic yards of beach quality sand is proposed to be placed between R-134+135 and R-135+551 to elevate the existing berm and help offset any potential impacts to downdrift beaches from capture of sand by the groins. The current proposed project does not include structures within Manalapan.

Between 2000 and 2012, the quantity of the exposed hardbottom within the Study Area has varied significantly. Reach 8 has averaged 6.28 acres of exposed hardbottom with a low of 0.45 acre and a high of 11.37 acres. Reach 9 has averaged 6.94 acres with a low of 0.61 acre and a high of 18.77 acres. Reach 10 has averaged 20.86 acres with a low of 3.27 acres and a high of 38.48 acres. Construction of the Applicants' proposed projects would impact 0.6 acre of intertidal and subtidal hardbottom in Reach 8 and 1.05 acres of nearshore hardbottom in Reaches 9 and 10 based on in-water surveys conducted in 2010 and 2012, respectively.

e. Alternatives. An evaluation of alternatives to the Applicants' Proposed Action initially being considered includes a No Action alternative; beach nourishment and dune restoration through filling activities, groins, upland coastal structural reinforcement/replacement, and combinations of these alternatives; alternatives that would avoid, minimize, and mitigate impacts to the aquatic resources; alternative practices or analysis methods for minimizing or evaluating cumulative effects of shoreline stabilization; and other reasonable alternatives that will be developed through the project scoping process which may also meet the identified purpose and need.

f. Issues. The following issues have been identified for analysis in the DEIS. This list is preliminary and is intended to facilitate public comment on the scope of the DEIS. The DEIS will consider the effects on Federally listed threatened and endangered species, Essential Fish Habitat, cumulative impacts, geology/soils, environmental justice, socioeconomic issues, traffic/circulation, noise/vibration, aesthetics, general environmental concerns, wetlands and other aquatic resources, historic properties, cultural resources, fish and wildlife values, recreation, air quality, water quality, considerations of property ownership, sediment budget, in general, the needs and welfare of the people, and other issues identified through scoping, public involvement, and interagency coordination. At the present time, the primary areas of concern are the loss of hardbottom and coral habitat, adequate characterization of impacts, mitigation of the loss of aquatic resources, the proposed projects' effect on fisheries and essential fish habitat and on Federally-listed threatened and endangered species, the potential effect of structures on downdrift beaches, and potential cumulative effects. The issues of concern and the methods used to evaluate those issues will be defined through the scoping process.

g. Scoping Process. CEQ regulations (40 CFR 1501.7) require an early and open process for determining the scope of an EIS and for identifying significant issues related to the Proposed Action. The Corps is furnishing this notice to advise other Federal and State agencies, affected federally recognized Tribes, and the public of our intentions. This notice announces the initiation of a 45-day scoping period which requests the public's involvement in the scoping and evaluation process of the DEIS. Stakeholders will be notified through advertisements, public notices and other means. All parties who express interest will be given an opportunity to participate in this process. The process allows the Corps to obtain suggestions and information on the scope of issues and an opportunity to provide reasonable alternatives to be included in the Draft EIS. (See DATES and ADDRESSES for meeting schedules)

h. Public Involvement. The Corps invites Federal agencies, American Indian Tribal Nations, state and local governments, and other interested private organizations and parties to attend the public scoping meetings and provide comments in order to ensure that all significant issues are identified and the full range of issues related to the permit request are addressed.

i. Coordination. The Proposed Action is being coordinated with a number of Federal, state, regional, and local agencies including but not limited to the following: U.S. Fish and Wildlife Service, U.S. National Marine Fisheries Service, U.S. Environmental Protection Agency, Florida Department of Environmental Protection, Florida State Historic Preservation Officer, local cities, and other agencies as identified in scoping, public involvement, and agency coordination.

j. Agency Role. The Corps will be the lead agency for the EIS. The Corps expects to receive input and critical information from the U.S. Fish and Wildlife Service, U.S. National Marine Fisheries Service, U.S. Environmental Protection Agency, and other federal, state, and local agencies.

k. Availability of the Draft EIS. The Corps currently expects the DEIS to be made available to the public by April 2014. A public meeting will be held during the public comment period for the DEIS. Written comments will be accepted at the meeting.

Donald W. Kinard,
Chief, Regulatory Division.

[FR Doc. 2013-16027 Filed 7-2-13; 8:45 am]

BILLING CODE 3710-58-P